DEPARTMENT OF AGRICULTURE

National Institute of Food and Agriculture

Notice of Intent To Extend and Revise a Previously Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection, entitled Expanded Food and Nutrition Education Program (EFNEP).

DATES: Written comments on this notice must be received by March 23, 2026 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Laura Givens, 816-527-5379, Laura.Givens@usda.gov.

SUPPLEMENTARY INFORMATION:

Title of Collection: Expanded Food and Nutrition Education Program.

OMB Control Number: 0524-0044.

Expiration Date of Current Approval: 05/31/2026.

Type of Request: Notice of intent to extend and revise a previously approved information collection for three years.

Abstract: EFNEP is authorized under section 1425 of the National Agricultural Research, Extension, and Teaching Policy Act of 1977 (7 U.S.C. 3175 and funded under section 3(d) of the Smith-Lever Act (7 U.S.C. 343(d)). Extension professionals train and supervise paraprofessionals and volunteers who teach food and nutrition information and skills to families and youth with limited financial resources. EFNEP operates through the 1862 and 1890 Land Grant Universities (LGU) in all 50 States, the District of Columbia, and in American Samoa, Guam, Micronesia, Northern Marianas, Puerto Rico, and the Virgin Islands.

NIFA sponsors an integrated data collection process that is used at the county, State, and Federal level. The current data collection system, the Web-based Nutrition Education Evaluation and Reporting System (WebNEERS), captures EFNEP impacts. Its purpose is to gauge if the Federal assistance provided has had an impact on the target audience. It also enables EFNEP staff to make programmatic improvements in delivering nutrition education. Further, the data collected provide information for program management decisions and diagnostic assessments of participants' needs and program fidelity. In order to capture all of EFNEP's reporting requirements in one place, EFNEP program plans and budgetary data are now submitted, reviewed, and approved through WebNEERS. These specific reporting requirements are tied to release of Federal EFNEP funds.

WebNEERS is a single web-based system that operates at three levels: Region (County); Institution (university), and Federal. Data is entered at the regional level and is available in aggregated form at the Institution level in real time. University staff are able to generate institutional-level reports to guide program management decisions and to inform State-level stakeholders. National data is used to create National reports, which are made available to the public.

NIFA is proposing revisions to the previously approved collection. A new Youth Food and Physical Activity Questionnaire for grades 6-12 has been added to better capture outcomes for older youth participants, with corresponding reports and federal data integration. The youth direct data app has been enabled, allowing youth participants to enter their own data, complementing the existing adult direct data app. The food database has been updated to the FNDDS 2017-2018 version for improved accuracy in dietary recall analysis. The system has been updated to support the new five-year plan cycle beginning FY2024, including visibility of previous year comments and streamlined approval workflows.

Total Estimate of Burden: The total annual estimated burden for this information collection is 18,772 hours. This includes the time needed for participant education and data entry, aggregation, and reporting; and for preparation, review, and submission of EFNEP program plans and budgetary information.

Estimated Number of Respondents: 76.

Annual responses: 76.

Average time to complete each response: 247 hours.

Burden hours: 18,772.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Kansas City, MO, this day of January 14, 2026.
Drenda Williams,
Associate Director, National Institute of Food and Agriculture, U.S. Department of Agriculture.

[FR Doc. 2026-01195 Filed 1-21-26; 8:45 am]

BILLING CODE 3410-22-P